OCCUPATIONAL SAFETY AND HEALTH REVIEW COMMISSION

Privacy Act of 1974; System of Records

AGENCY: Occupational Safety and Health Review Commission.

ACTION: Notice of a new system of records.

SUMMARY: In accordance with the Privacy Act of 1974, 5 U.S.C. 552a, as amended, the Occupational Safety and Health Review Commission (OSHRC) is providing notice of a new Privacy Act system of records, designated as Emergency Contact Information, OSHRC-1.

DATES: Comments must be received by OSHRC on or before October 22, 2018. The new system of records will become effective on that date, without any further notice in the Federal Register, unless comments or government approval procedures necessitate otherwise.

ADDRESSES: You may submit comments by any of the following methods:

• Email: rbailey@oshrc.gov. Include “PRIVACY ACT SYSTEM OF RECORDS” in the subject line of the message.

• Fax: (202) 606-5417.

• Mail: One Lafayette Centre, 1120 20th Street NW, Ninth Floor, Washington, DC 20036-3457.

• Hand Delivery/Courier: same as mailing address.

Instructions: All submissions must include your name, return address, and email address, if applicable. Please clearly label submissions as “PRIVACY ACT SYSTEM OF RECORDS.”

FOR FURTHER INFORMATION CONTACT: Ron Bailey, Attorney-Advisor, Office of the General Counsel, via telephone at (202) 606-5410, or via email at rbailey@oshrc.gov.

SUPPLEMENTARY INFORMATION: The Privacy Act of 1974, 5 U.S.C. 552a(e)(4), requires federal agencies such as OSHRC to publish in the Federal Register notice of any new system of records. This system of records consists of paper records—contact information cards that all OSHRC personnel, including Commission members, employees, and contractors, complete when first starting work at the agency. These cards are shredded when the subject of the card no longer works at the agency. The cards, which are organized in a file by the subject's name, include the subject's full name, home telephone number and address; a person to contact in the event of an emergency; that person's home telephone number and address, and office telephone number; and the subject's relationship to the emergency contact. Electronic contact lists are also maintained on a shared OSHRC drive, with access restricted to the system manager (OSHRC's human resources specialist) and office managers. These electronic records include the names of all OSHRC personnel, their home and office telephone numbers, and their home addresses.

The notice for OSHRC-1, provided below in its entirety, is as follows.

SYSTEM NAME AND NUMBER

Emergency Contact Information, OSHRC-1.

SECURITY CLASSIFICATION:

Unclassified.

SYSTEM LOCATION:

Office of the Executive Director, OSHRC, 1120 20th Street NW, Ninth Floor, Washington, DC 20036-3457.

SYSTEM MANAGER(S):

Human Resources Specialist, 1120 20th Street NW, Ninth Floor, Washington, DC 20036-3457; (202) 606-5100.

AUTHORITY FOR MAINTENANCE OF THE SYSTEM:

29 U.S.C. 661(e); 44 U.S.C. 3101.

PURPOSE(S) OF THE SYSTEM:

The purpose of this system is to maintain current information on OSHRC personnel to allow office managers or other pertinent agency personnel to provide notification about, and/or respond to, emergency conditions.

CATEGORIES OF INDIVIDUALS COVERED BY THE SYSTEM:

This system of records covers all current OSHRC personnel, including Commission members, employees, and contractors.

CATEGORIES OF RECORDS IN THE SYSTEM:

This system of records includes the names, home telephone numbers and addresses, and office telephone numbers of OSHRC personnel; the names of emergency contacts, and the contacts' home telephone numbers and addresses, and office telephone numbers; and the relationships between OSHRC personnel and their designated emergency contacts.

RECORD SOURCE CATEGORIES:

Information in this system of records comes from OSHRC personnel.

ROUTINE USES OF RECORDS MAINTAINED IN THE SYSTEM, INCLUDING CATEGORIES OF USERS AND PURPOSES OF SUCH USES:

In addition to disclosures generally permitted under 5 U.S.C. 552a(b), all or a portion of the records or information contained in this system of records may be disclosed as a routine use pursuant to 5 U.S.C. 552a(b)(3) under the circumstances or for the purposes described below, to the extent such disclosures are compatible with the purposes for which the information was collected:

(1) To the Department of Justice (DOJ), or to a court or adjudicative body before which OSHRC is authorized to appear, when any of the following entities or individuals—(a) OSHRC, or any of its components; (b) any employee of OSHRC in his or her official capacity; (c) any employee of OSHRC in his or her individual capacity where DOJ (or OSHRC where it is authorized to do so) has agreed to represent the employee; or (d) the United States, where OSHRC determines that litigation is likely to affect OSHRC or any of its components—is a party to litigation or has an interest in such litigation, and OSHRC determines that the use of such records by DOJ, or by a court or other tribunal, or another party before such tribunal, is relevant and necessary to the litigation.

(2) To an appropriate agency, whether federal, state, local, or foreign, charged with investigating or prosecuting a violation or enforcing or implementing a law, rule, regulation, or order, when a record, either on its face or in conjunction with other information, indicates a violation or potential violation of law, which includes civil, criminal or regulatory violations, and such disclosure is proper and consistent with the official duties of the person making the disclosure.

(3) To a federal, state, or local agency maintaining civil, criminal or other relevant enforcement information, such as current licenses, if necessary to obtain information relevant to an OSHRC decision concerning the hiring, appointment, or retention of an employee; the issuance, renewal, suspension, or revocation of a security clearance; the execution of a security or suitability investigation; the letting of a contract; or the issuance of a license, grant or other benefit.

(4) To a federal, state, or local agency, in response to that agency's request for a record, and only to the extent that the information is relevant and necessary to the requesting agency's decision in the matter, if the record is sought in connection with the hiring, appointment, or retention of an employee; the issuance, renewal, suspension, or revocation of a security clearance; the execution of a security or suitability investigation; the letting of a contract; or the issuance of a license, grant or other benefit by the requesting agency.

(5) To an authorized appeal grievance examiner, formal complaints manager, equal employment opportunity investigator, arbitrator, or other duly authorized official engaged in investigation or settlement of a grievance, complaint, or appeal filed by an employee, only to the extent that the information is relevant and necessary to the case or matter.

(6) To OPM in accordance with the agency's responsibilities for evaluation and oversight of federal personnel management.

(7) To officers and employees of a federal agency for the purpose of conducting an audit, but only to the extent that the record is relevant and necessary to this purpose.

(8) To OMB in connection with the review of private relief legislation at any stage of the legislative coordination and clearance process, as set forth in Circular No. A-19.

(9) To a Member of Congress or to a person on his or her staff acting on the Member's behalf when a written request is made on behalf and at the behest of the individual who is the subject of the record.

(10) To the National Archives and Records Administration (NARA) for records management inspections and such other purposes conducted under the authority of 44 U.S.C. 2904 and 2906.

(11) To appropriate agencies, entities, and persons when: (a) OSHRC suspects or has confirmed that there has been a breach of the system of records; (b) OSHRC has determined that as a result of the suspected or confirmed breach there is a risk of harm to individuals, OSHRC, the Federal Government, or national security; and (c) the disclosure made to such agencies, entities, and persons is reasonably necessary to assist in connection with OSHRC's efforts to respond to the suspected or confirmed breach or to prevent, minimize, or remedy such harm.

(12) To NARA, Office of Government Information Services (OGIS), to the extent necessary to fulfill its responsibilities in 5 U.S.C. 552(h), to review administrative agency policies, procedures and compliance with FOIA, and to facilitate OGIS' offering of mediation services to resolve disputes between persons making FOIA requests and administrative agencies.

(13) To another federal agency or federal entity, when OSHRC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) To law enforcement, medical personnel, or other personnel or entities responding to an emergency, if necessary to facilitate contact with OSHRC personnel's designated emergency contacts.

POLICIES AND PRACTICES FOR STORAGE OF RECORDS:

Paper records are stored in file cabinets, and electronic records are stored on an access-restricted shared OSHRC drive.

POLICIES AND PRACTICES FOR RETRIEVAL OF RECORDS:

Paper records can be retrieved manually by name; and electronic records, included in a spreadsheet, can be retrieved by name, telephone number, or home address.

POLICIES AND PRACTICES FOR RETENTION AND DISPOSAL OF RECORDS:

Records are retained until the subject of the record no longer works at OSHRC, at which time the paper record is shredded and the electronic file containing the record is revised to omit the subject's name and information.

ADMINISTRATIVE, TECHNICAL, AND PHYSICAL SAFEGUARDS:

Paper records are maintained in a file cabinet. During duty hours, the records are under surveillance of personnel charged with their custody, and after duty hours, the records are secured behind locked doors. Access to the cabinet is limited to personnel having a need for access to perform their official functions. Electronic records are maintained on an OSHRC shared drive with access restricted to the system manager and office managers.

RECORD ACCESS PROCEDURES:

Individuals who wish to gain access to their records should notify: Privacy Officer, OSHRC, 1120 20th Street NW, Ninth Floor, Washington, DC 20036-3457. For an explanation on how such requests should be drafted, refer to 29 CFR 2400.6 (procedures for requesting records).

CONTESTING RECORD PROCEDURES:

Individuals who wish to contest their records should notify: Privacy Officer, OSHRC, 1120 20th Street NW, Ninth Floor, Washington, DC 20036-3457. For an explanation on the specific procedures for contesting the contents of a record, refer to 29 CFR 2400.8 (Procedures for requesting amendment), and 29 CFR 2400.9 (Procedures for appealing).

NOTIFICATION PROCEDURES:

Individuals interested in inquiring about their records should notify: Privacy Officer, OSHRC, 1120 20th Street NW, Ninth Floor, Washington, DC 20036-3457. For an explanation on how such requests should be drafted, refer to 29 CFR 2400.5 (notification), and 29 CFR 2400.6 (procedures for requesting records).

EXEMPTIONS PROMULGATED FOR THE SYSTEM:

None.

HISTORY:

None.

Dated: September 14, 2018.
Nadine N. Mancini,
General Counsel, Senior Agency Official for Privacy.

[FR Doc. 2018-20534 Filed 9-20-18; 8:45 am]

BILLING CODE 7600-01-P